DEPARTMENT OF HOMELAND SECURITY

Federal Emergency Management Agency

44 CFR Part 65

[Docket ID FEMA-2010-0003; Internal Agency Docket No. FEMA-B-1143]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Idaho:
Valley | Unincorporated areas of Valley County (10-10-0010P) | April 15, 2010; April 22, 2010; The Star-News | The Honorable Jerry Winkle, Valley County Commissioner, P.O. Box 1350, Cascade, ID 83611 | August 21, 2010 | 160220
Indiana: Hamilton | City of Noblesville (10-05-3162P) | April 15, 2010; April 22, 2010; Indianapolis Star | The Honorable John Ditslear, Mayor, City of Noblesville, 16 South 10th Street, Suite 150, Noblesville, IN 46060 | August 20, 2010 | 180082
Wisconsin:
Green Lake | Village of Marquette (10-05-1858P) | April 8, 2010; April 15, 2010; The Berlin Journal Newspaper | Mr. Howard Sell, District 6, County Board Supervisor, N3415 State Highway 73, Markesan, WI 53946 | March 29, 2010 | 550170
Waukesha | Unincorporated areas of Waukesha County (10-05-0806P) | April 29, 2010; May 6, 2010; Milwaukee Journal Sentinel and Lake County Reporter | Mr. Daniel P. Vrakas, County Executive, 515 West Moreland Boulevard, Room 230, Waukesha, WI 53188 | September 3, 2010 | 550476
Jefferson | Unincorporated areas of Jefferson County (10-05-0806P) | April 29, 2010; May 6, 2010; Daily Jefferson County Union | Ms. Sharon L. Schmeling, County Board Chairperson, 320 South Main Street, Room 201, Jefferson, WI 53549 | September 3, 2010 | 550191
Waukesha | Unincorporated areas of Waukesha County (10-05-0802P) | April 29, 2010; May 6, 2010; Lake County Reporter and Milwaukee Journal Sentinel | Mr. Daniel P. Vrakas, County Executive, 515 West Moreland Boulevard, Room 320, Waukesha, WI 53188 | September 3, 2010 | 550476
Michigan:
Oakland | City of Novi (10-05-0812P) | May 6, 2010; May 13, 2010; Novi News | The Honorable David Landry, Mayor, City of Novi, 45175 West Ten Mile Road, Novi, MI 48375 | May 24, 2010 | 260175
Wisconsin:
Dane | Village of Black Earth (10-05-1272P) | May 20, 2010; May 27, 2010; News-Sickle-Arrow | The Honorable Patrick Troge, President, Village of Black Earth, 1525 Riverview Drive, Black Earth, WI 53515 | September 24, 2010 | 550079
Dane | Unincorporated areas of Dane County (10-05-1272P) | May 20, 2010; May 27, 2010; The Wisconsin State Journal | Kathleen Falk, County Executive, 210 Martin Luther King Jr. Boulevard, Room 116, City-County Building, Madison, WI 53703 | September 24, 2010 | 550077
Massachusetts:
Barnstable | Town of Falmouth (09-01-1590P) | May 21, 2010; May 28, 2010; Falmouth Enterprise | Mr. Robert L. Whritenour, Jr., Town of Falmouth Manager, 59 Town Hall Square, Falmouth, MA 02540 | August 26, 2010 | 255211
Wisconsin:
St. Croix | City of River Falls (10-05-1230P) | May 27, 2010; June 3, 2010; River Falls Journal | The Honorable Don Richards, Mayor, City of River Falls, 106 North Wasson Lane, River Falls, WI 54022 | October 1, 2010 | 550330
St. Croix | Unincorporated areas of St. Croix County (10-05-1230P) | May 27, 2010; June 3, 2010; River Falls Journal | Mr. Daryl Standafer, St. Croix County Chairman, 1101 Carmichael Road Hudson, WI 54016 | October 1, 2010 | 555578
Iowa:
Polk | City of Des Moines (09-07-1717P) | May 27, 2010; June 3, 2010; Des Moines Register | The Honorable Franklin Cownie, Mayor, City of Des Moines, 675 Harwood Drive, Des Moines, IA 50312 | October 1, 2010 | 190227
Idaho:
Ada | Unincorporated areas of Ada County (10-10-0170P) | May 27, 2010; June 3, 2010; The Idaho Statesman | The Honorable Fred Tilman, Ada County Commissioner, 200 West Front Street, Boise, ID 83702 | September 1, 2010 | 160001
Indiana:
Tippecanoe | City of Lafayette (10-05-3321P) | May 27, 2010; June 3, 2010; Journal and Courier | The Honorable Tony Roswarski, Mayor, City of Lafayette, 20 North 6th Street, Lafayette, IN 47901 | May 18, 2010 | 180253
Nebraska:
Lancaster | City of Lincoln (10-07-0761P) | June 3, 2010; June 10, 2010; The Lincoln Journal-Star | The Honorable Chris Beutler, Mayor, City of Lincoln, 555 South 10th Street, Suite 301, Lincoln, NE 68508 | October 8, 2010 | 315273
Virginia:
City of Fairfax | City of Fairfax (10-03-0412P) | June 14, 2010; June 21, 2010; The Washington Times | The Honorable Robert F. Lederer, Mayor, City of Fairfax, 10455 Armstrong Street, Fairfax, VA 22030 | October 19, 2010 | 515524
Vermont:
Windham | Town of Wilmington (10-01-0925P) | June 14, 2010; June 21, 2010; Brattleboro Reformer | The Honorable Thomas P. Consolino, Chair, Selectboard, P.O. Box 217 Wilmington, VT 05363 | June 2, 2010 | 500142
Windham | Town of Wilmington (10-01-0925P) | June 17, 2010; June 24, 2010; The Deerfield Valley News | The Honorable Thomas P. Consolino, Chair, Selectboard P.O. Box 217 Wilmington, VT 05363 | June 2, 2010 | 500142
New Hampshire:
Hillsborough | Town of Pelham (09-01-1526P) | June 18, 2010; June 25, 2010; The Lowell Sun | The Honorable Douglas Viger, Chairman, Board Selectman, 6 Village Green, Pelham, NH 03076 | July 6, 2010 | 330100
Hillsborough | Town of Pelham (09-01-1526P) | June 21, 2010; June 28, 2010; The Pelham-Windham News | The Honorable Douglas Viger, Chairman, Board Selectman, 6 Village Green, Pelham, NH 03076 | July 6, 2010 | 330100
Kansas:
Johnson | City of Overland Park (09-07-1710P) | June 30, 2010; July 7, 2010; Sun Publications | The Honorable Carl Gerlach, Mayor, City of Overland Park, 8500 Santa Fe Drive, Overland Park, KS 66212 | June 17, 2010 | 200174
Maine:
Cumberland | Town of Harpswell (09-01-1532P) | July 12, 2010; July 19, 2010; The Times-Record | The Honorable James S. Henderson, Chairman, Board of Selectman, P.O. Box 39, Harpswell, ME 04079 | June 24, 2010 | 230169
Michigan:
Macomb | Township of Washington (10-05-4289P) | July 7, 2010; July 14, 2010; The Romeo Observer | Mr. Dan O'Leary, Board Supervisor, 57900 Van Dyke Road, Washington, MI 48094 | June 29, 2010 | 260447
Missouri:
Cole | City of Jefferson City (10-07-0593P) | July 8, 2010; July 15, 2010; News-Tribune | The Honorable John Landwehr, Mayor, City of Jefferson City, 320 East McCarty Street, Jefferson City, MO 65101 | December 24, 2010 | 290108
Iowa:
Black Hawk | City of Cedar Falls (10-07-0506P) | July 8, 2010; July 15, 2010; The Waterloo Courier | The Honorable Jon Crews, Mayor, Cedar Falls, 220 Clay Street, Cedar Falls, IA 50613 | November 12, 2010 | 190017
Maine:
York | Town of Holis (10-01-0538P) | July 13, 2010; July 20, 2010; The Smart Shopper | Mr. Stuart B. Gannett, Sr., Chairman, Board of Selectman, 34 Town Farm Road, Hollis, ME 04042 | November 17, 2010 | 230150

(Catalog of Federal Domestic Assistance No. 97.022, “Flood Insurance.”)

Dated: December 22, 2010.
Edward Connor,
Acting Federal Insurance and Mitigation Administrator, Mitigation, Department of Homeland Security, Federal Emergency Management Agency.

[FR Doc. 2010-33103 Filed 12-30-10; 8:45 am]

BILLING CODE 9110-12-P